DEPARTMENT OF DEFENSE

Department of the Navy

[Docket ID: USN-2024-HQ-0004]

Proposed Collection; Comment Request

AGENCY: Headquarters Marine Corps (HQMC), Department of the Navy (DON), Department of Defense (DoD).

ACTION: 60-Day information collection notice.

SUMMARY: In compliance with the Paperwork Reduction Act of 1995, the Marine Corps Community Services announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 17, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters Marine Corps Records, Reports, Directives, and Forms Management Section, 3000 Marine Corps, Pentagon Rm. 2B253, Mr. Mark Kazzi, (571) 256-8883.

SUPPLEMENTARY INFORMATION:

Title; Associated Form; and OMB Number: Marine Corps Community Services Nonappropriated Funds Procurement Collections; OMB Control Number 0712-ECMS.

Needs and Uses: Marine Corps Community Services (MCCS) procurement offices obtain supplies, services, and construction activities for MCCS in a fair, equitable, and impartial manner in compliance with applicable laws and regulations pertaining to nonappropriated funds (NAF). The proposed NAF Enterprise Contract Management System (ECM) is needed to effectively solicit, evaluate, and track MCCS and other Marine Corps Nonappropriated Fund Instrumentality (NAFI) purchasing and contracting activities. The collected information will be used to conduct NAF contracting actions, ensure regulatory requirements are met, and provide supporting data for internal statistical analysis, tracking, and reporting requirements.

Affected Public: Businesses or other for-profit; Not-for-profit Institutions.

Annual Burden Hours: 1,808.

Number of Respondents: 849.

Responses per Respondent: 1.

Annual Responses: 849.

Average Burden per Response: 2.13 hours.

Frequency: On occasion.

Respondents are private sector contractors, vendors, or offerors (hereinafter collectively referred to as contractors) who intend to conduct business activities with MCCS or other Marine Corps NAFIs. The contractors respond to opportunities to qualify for and receive a contract award by documenting business eligibility requirements; providing quotes, proposals, and contract modifications; and documenting areas of responsibility. The information collected will vary depending on the type and complexity of the contract. Information will be submitted via FedConnect online services or mailed directly to MCCS, depending on the contract type.

Dated: March 12, 2024.
Aaron T. Siegel,
Alternate OSD Federal Register Liaison Officer, Department of Defense.

[FR Doc. 2024-05691 Filed 3-15-24; 8:45 am]

BILLING CODE 6001-FR-P